DEPARTMENT OF THE INTERIOR

Bureau of Land Management

[A2407-014-004-065516, #O2509-014-004-125222]

Call for Nominations for the National Wild Horse and Burro Advisory Board

AGENCY: Bureau of Land Management, Interior.

ACTION: Notice of call for nominations.

SUMMARY: The purpose of this notice is to solicit public nominations for six positions on the Wild Horse and Burro Advisory Board. The Board provides advice concerning the management, protection, and control of wild free-roaming horses and burros on public lands administered by the Department of the Interior, through the Bureau of Land Management (BLM), and the Department of Agriculture, through the U.S. Forest Service.

DATES: Nominations must be post marked or submitted to the addresses below no later than April 13, 2026.

ADDRESSES: Nominations can be sent via email, mail, or messenger delivery (U.S. Postal Service or FedEx preferred). Please consider emailing PDF documents to BLM_WHB_AB_Nominations@blm.gov. Packages sent through the mail or messenger delivery should be addressed as follows: U.S. Department of the Interior, Bureau of Land Management, Attn: HQ 200, C/O Wild Horses and Burro Division, 1849 C St. NW, Washington, DC 20240.

FOR FURTHER INFORMATION CONTACT: Allison Niebauer, Wild Horse and Burro Program Coordinator, telephone: 571-540-0430, email: aniebauer@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Members of the Board serve without compensation; however, while away from their homes or regular places of business, Board members engaged in Board business approved by the Designated Federal Officer (DFO) may be allowed travel expenses, including per diem in lieu of subsistence under 5 U.S.C. 5703, in the same manner as persons employed intermittently in government service. Nominations for a term of 3 years are needed to represent the following categories of interest:

• Wild Horse and Burro Advocacy (vacant position)

• Veterinary Medicine (vacant position)

• Public Interest (with special knowledge of natural resources management) (vacant position)

• Humane Advocacy (to be seated after 9/6/2026)

• Livestock Management (to be seated after 9/6/2026)

• Wildlife Management (to be seated after 9/6/2026)

The Board will meet at least once annually. The DFO may call additional meetings in connection with special needs for advice. Individuals may nominate themselves or others. Any individual or organization may nominate one or more persons to serve on the Board.

Nominations should include a resume providing an adequate description of the nominee's qualifications, including information that would enable the Departments of the Interior and Agriculture to make an informed decision regarding meeting the membership requirements of the Board and permit the Departments to contact a potential member. Nominations are to be sent to one of the addresses listed under ADDRESSES. To assist nominees in developing nominations packets, please visit the BLM website at https://www.blm.gov/programs/wild-horse-and-burro/advisory-board and click on the link, Applying to Serve on the Advisory Board. For more information about the Wild Horse and Burro Program, please visit the BLM website at https://www.blm.gov/whb.

As appropriate, certain Board members may be appointed as special government employees (SGEs). Please be aware that applicants selected to serve as SGEs will be required, prior to appointment, to file a Confidential Financial Disclosure Report in order to avoid involvement in real or apparent conflicts of interest. You may find a copy of the Confidential Financial Disclosure Report at the following website: https://www.doi.gov/ethics/financial-disclosure. Additionally, after appointment, members appointed as SGEs will be required to meet applicable financial disclosure and ethics training requirements. Please contact (202) 208-7960 or DOI_Ethics@sol.doi.gov with any questions about the ethics requirements for members appointed as SGEs.

Membership Selection: Individuals shall qualify to serve on the Board because of their education, training, or experience that enables them to give informed and objective advice regarding the interest they represent. They should demonstrate experience or knowledge of the area of their expertise and a commitment to collaborate in seeking solutions to resource management issues. The Board is structured to provide fair membership and balance, both geographic and interest specific, in terms of the functions to be performed and points of view to be represented. Members are selected with the objective of providing representative counsel and advice about public land and resource planning.

Pursuant to section 7 of the Wild Free-Roaming Horses and Burros Act, members of the Board cannot be employed by the State or Federal Government.

(Authority: 43 CFR 1784.4-1)

Leah B. Baker,
Assistant Director, Resources and Planning.

[FR Doc. 2026-02648 Filed 2-9-26; 8:45 am]

BILLING CODE 4331-27-P